NATIONAL FOUNDATION ON THE ARTS AND THE HUMANITIES

Institute of Museum and Library Services

Notice of Proposed Information Collection Requests: 2027-2029 IMLS Grant Application Forms

AGENCY: Institute of Museum and Library Services, National Foundation on the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments concerning the three-year approval of the forms necessary to submit an application to any IMLS grant program. A copy of the proposed information collection request can be obtained by contacting the individual listed below in the ADDRESSES section of this notice.

DATES: Written comments must be submitted to the office listed in the addresses section below on or before April 04, 2026.

ADDRESSES: Send comments to Sandra Narva, Acting Director of Grants Management, Office of Grants Management, Institute of Museum and Library Services, 955 L'Enfant Plaza North SW, Suite 4000, Washington, DC 20024-2135. Ms. Narva can be reached by telephone: 202-653-4634 or by email at snarva@imls.gov. Office hours are from 8:30 a.m. to 5 p.m., E.T., Monday through Friday, except federal holidays.

FOR FURTHER INFORMATION CONTACT: Sandra Narva, Acting Director of Grants Management, Office of Grants Management, Institute of Museum and Library Services, 955 L'Enfant Plaza North SW, Suite 4000, Washington, DC 20024-2135. Ms. Narva can be reached by telephone at 202-653-4634, or by email at snarva@imls.gov.

SUPPLEMENTARY INFORMATION: IMLS is particularly interested in public comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

IMLS is the primary source of federal support for the Nation's libraries and museums. We advance, support, and empower America's museums, libraries, and related organizations through grant making, research, and policy development. To learn more, visit www.imls.gov.

II. Current Actions

The purpose of this collection is to facilitate the administration of the IMLS application and review processes for its discretionary grants and cooperative agreements. IMLS uses standardized application forms for eligible libraries, museums, and other organizations to apply for its funding. The forms submitted for public review in this Notice are the IMLS Budget Form, IMLS Museum Program Information Form, IMLS Library-Discretionary Program Information Form, IMLS Native American and Native Hawaiian Library Services Program Information Form, and IMLS Supplementary Information Form, each of which is included in one or more of the Grants.gov packages associated with IMLS grant programs.

This action is to review the content, forms, and instructions for the next three years.

Agency: Institute of Museum and Library Services.

Title: 2027-2029 IMLS Grant Application Forms.

OMB Control Number: 3137-0092.

Agency Number: 3137.

Respondents/Affected Public: Library and museum grant applicants.

Total Estimated Number of Annual Respondents:2,800 IMLS Program Information Forms and 2,800 IMLS Budget Forms.

Frequency of Response: Once per request.

Estimated Average Burden per Response: 30 minutes per response for the IMLS Program Information Forms and three hours per response for the IMLS Budget Form.

Total Estimated Number of Annual Burden Hours: 9,800.

Total Annual Cost Burden: $328,551.

Total Annual Federal Costs: $85,015.

Public Comments Invited: Comments submitted in response to this Notice will be summarized and/or included in the request for OMB's clearance of this information collection.

Dated: January 28, 2026.
Suzanne Mbollo,
Grants Management Specialist, Institute of Museum and Library Services.

[FR Doc. 2026-01990 Filed 1-30-26; 8:45 am]

BILLING CODE 7036-01-P